DEPARTMENT OF LABOR

Occupational Safety and Health Administration

[Docket No. OSHA-2016-0009]

Advisory Committee on Construction Safety and Health (ACCSH); Notice of Renewal of Charter

AGENCY: Occupational Safety and Health Administration (OSHA), Labor.

ACTION: Notice of renewal of the ACCSH Charter.

SUMMARY: The Secretary of Labor has renewed the Charter of the Advisory Committee on Construction Safety and Health (ACCSH) for two years. The current ACCSH Charter will expire on November 17, 2016.

FOR FURTHER INFORMATION CONTACT: Mr. Damon S. Bonneau, Office of Construction Services, Directorate of Construction, Occupational Safety and Health Administration, Room N-3468, U.S. Department of Labor, 200 Constitution Avenue NW., Washington, DC 20210; telephone (202) 693-2020 (TTY (877) 889-5627); email: bonneau.damon@dol.gov.

SUPPLEMENTARY INFORMATION: ACCSH is a continuing advisory committee established under Section 107 of the Contract Work Hours and Safety Standards Act (Construction Safety Act (CSA)) (40 U.S.C. 3704(d)(4)), to advise the Secretary and the Assistant Secretary of Labor for Occupational Safety and Health in the formulation of construction safety and health standards as well as on policy matters arising under the CSA and the Occupational Safety and Health Act of 1970 (OSH Act) (29 U.S.C. 651 et seq.).

In accordance with the Federal Advisory Committee Act (FACA), as amended (5 U.S.C. App. 2 § 14(b)(2)), and its implementing regulations (41 CFR 102-3 et seq.), the ACCSH Charter must be renewed every two years. The current ACCSH Charter will expire on November 17, 2016. The new Charter includes minor updates to better describe the management of the Committee's records.

Authority and Signature

David Michaels, Ph.D., MPH, Assistant Secretary of Labor for Occupational Safety and Health, directed the preparation of this notice under the authority granted by 29 U.S.C. 656; 40 U.S.C. 3704; 5 U.S.C. App. 2; 29 CFR parts 1911 and 1912; 41 CFR 102-3; and Secretary of Labor's Order No. 1-2012 (77 FR 3912, Jan. 25, 2012).

Signed at Washington, DC, on November 8, 2016.
David Michaels,
Assistant Secretary of Labor for Occupational Safety and Health.

[FR Doc. 2016-27695 Filed 11-16-16; 8:45 am]

BILLING CODE 4510-26-P